DEPARTMENT OF COMMERCE

National Oceanic and Atmospheric Administration

[I.D. 030801A]

Endangered Species; Permits

AGENCY: National Marine Fisheries Service (NMFS), National Oceanic and Atmospheric Administration (NOAA), Commerce.

ACTION: Receipt of an application for a scientific research/enhancement permit (1300).

SUMMARY: Notice is hereby given of the following actions regarding permits for takes of endangered and threatened species for the purposes of scientific research and/or enhancement under the Endangered Species Act (ESA): NMFS has received an application for an ESA section 10 (a)(1)(A) scientific research/enhancement permit (1300) from the United States Fish and Wildlife Service (USFWS) Leavenworth National Fish Hatchery Complex at Leavenworth, WA.

DATES: Comments or requests for a public hearing on any of the new applications or modification requests must be received at the appropriate address or fax number no later than 5 p.m. eastern standard time on April 19, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Sustainable Fisheries Division, Hatcheries and Inland Fisheries Branch, NWR2, 525 N.E. Oregon Street, Suite 510, Portland, OR 97232.

Documents may also be reviewed by appointment in the Office of Protected Resources, F/PR3, NMFS, 1315 East-West Highway, Silver Spring, MD 20910-3226 (phone:301-713-1401).

FOR FURTHER INFORMATION CONTACT: Richard Turner, Portland, OR at phone number: (503) 736-4737, fax: (503) 736-2737, or e-mail: Rich.Turner@noaa.gov

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Fish

Chinook salmon (O. tshawytscha): endangered, naturally produced and artificially propagated, Upper Columbia River (UCR) spring chinook.

Steelhead (O. mykiss): endangered, naturally produced and artificially propagated, UCR steelhead.

New Applications Received

Application 1300

USFWS requests a 5-year ESA section 10(a)(1)(A) scientific research/enhancement permit (1300) that would authorize annual takes of adult and juvenile, listed UCR spring chinook salmon for use in a hatchery supplementation program designed to help conserve the species. The program is located at Winthrop National Fish Hatchery (NFH), at river kilometer 72 of the Methow River in Washington.

The primary goal of USFWS’ proposed supplementation program is to used locally adapted spring chinook salmon to help forestall the extinction of spring chinook salmon populations in the Methow River Basin. The specific objectives of USFWS program are to: (1) phase-out the use of transplanted Carson stock spring chinook salmon at Winthrop NFH, (2) maintain and restore natural spawning populations of spring chinook salmon in the Methow River Basin, (3) increase the species’ chances for long-term survival by supplementing the natural production of chinook salmon in the Methow River Basin, (4) mitigate for the loss of chinook salmon production above Grand Coulee Dam, and (5) ultimately reestablish sport and tribal fisheries for chinook salmon in the Methow River Basin. USFWS proposes to accept transfer of ESA-listed adult and jack spring chinook salmon that are collected by the Washington Department of Fish and Wildlife at Wells Dam and other locations in the Methow River Basin (under proposed permit 1196 (64 FR 6880, February 11, 1999))and to retain ESA-listed adult and jack spring chinook salmon that return to the Winthrop NFH for broodstock. Broodstock will be held, inoculated for diseases, and spawned at Winthrop NFH. The resulting progeny are proposed to be reared in the hatchery, tagged and/or marked with identifiers (coded wires, visual implant elastomer tags, passive integrated transponders), and released as smolts in the Methow River Basin or on-station. Hatchery smolts will be allowed to acclimate prior to their volitional emigration to the ocean. Progeny of ESA-listed UCR spring chinook spawned at Winthrop NFH may also be used in remote site incubators or outplanted as fry into the Methow River Basin. Annual incidental takes of ESA-listed UCR steelhead resulting from hatchery operations, broodstock collection, and the annual releases of juvenile fish from the program are also requested.

Dated: March 9, 2001.
Phil Williams,
Acting Chief, Endangered Species Division, Office of Protected Resources, National Marine Fisheries Service.

[FR Doc. 01-6891 Filed 3-19-01; 8:45 am]

BILLING CODE 3510-22-S